DEPARTMENT OF JUSTICE

Antitrust Division

Notice Pursuant to the National Cooperative Research and Production Act of 1993—ODVA, Inc.

Notice is hereby given that, on April 20, 2017, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Analog Devices, Inc., Norwood, MA; Willowglen Systems, Inc., Edmonton, Alberta, CANADA; Wipotec Wiege-und Positioniersysteme GmbH, Kaiserslautern, GERMANY; Systec Systemtechnik und Industrieautomation GmbH, Bergheim-Glessen, GERMANY; KEB America, Inc., Shakopee, MN; Dong IL Vision, Gyeonggi-do, REPUBLIC OF KOREA; Utthunga Technologies Pvt Ltd., Bangalore, INDIA; InterTech Development Company, Skokie, IL; Perle Systems Limited, Markham, Ontario, CANADA; and Criterion NDT, Inc., Auburn, WA, have been added as parties to this venture.

Also, PCN Technology, San Diego, CA; Welding Technology Corporation, Farmington Hills, MI; Control Technology Corporation, Hopkinton, MA; Hiprom Technologies, Randburg, SOUTH AFRICA; Prozess Technologie, Inc., St. Louis, MO; ADTEC Plasma Technology Co., Ltd., Hiroshima, JAPAN; Shanghai MRDcom Co., Ltd., Shanghai, CHINA; and Mencom Corporation, Oakwood, GA, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on February 3, 2017. A notice was published in the Federal Register pursuant to Section 6(b) of the Act on March 6, 2017 (82 FR 12638).

Patricia A. Brink,
Director of Civil Enforcement, Antitrust Division.

[FR Doc. 2017-10356 Filed 5-19-17; 8:45 am]

BILLING CODE P